DEPARTMENT OF ENERGY

Federal Energy Regulatory Commission

[Docket No. ER13-64-000; et al.]

PacifiCorp, et al; Notice of FERC Staff Attendance

PacifiCorp | Docket No. ER13-64-000
Deseret Generation & Transmission Cooperative, Inc. | Docket No. ER13-65-000
Northwestern Corporation (Montana) | Docket No. ER13-67-000
Portland General Electric Company | Docket No. ER13-68-000
Idaho Power Company | Docket No. ER13-127-000
Public Service Company of Colorado | Docket No. ER13-75-000
Terra-Gen Dixie Valley, LLC | Docket No. ER13-76-000
Tucson Electric Power Company | Docket No. ER13-77-000
UNS Electric, Inc. | Docket No. ER13-78-000
Public Service Company of New Mexico | Docket No. ER13-79-000
Arizona Public Service Company | Docket No. ER13-82-000
El Paso Electric Company | Docket No. ER13-91-000
Black Hills Power, Inc., et al. | Docket No. ER13-96-000
Black Hills Colorado Electric Utility Company | Docket No. ER13-97-000
NV Energy, Inc | Docket No. ER13-105-000
Cheyenne Light, Fuel and Power Company | Docket No. ER13-120-000
Avista Corporation | Docket No. ER13-93-000
Avista Corporation | Docket No. ER13-94-000
Puget Sound Energy | Docket No. ER13-98-000
Puget Sound Energy | Docket No. ER13-99-000
Bonneville Power Administration | Docket No. NJ13-1-000
California Independent System Operator Corporation | Docket No. ER13-103-000

The Federal Energy Regulatory Commission (Commission) hereby gives notice that on January 30, 2013, members of its staff will attend a meeting hosted by California Independent System Operator regarding the interregional coordination requirements established by Order No. 1000. The agenda and other documents for the meeting will be available at https://www.columbiagrid.org/O1000Inter-documents.cfm.

The meeting is open to all stakeholders and Commission staff's attendance is part of the Commission's ongoing outreach efforts. The meeting may discuss matters at issue in the above captioned dockets.

For Further Information Contact: Susan Beall at Susan.Beall@ferc.gov.

Dated: January 23, 2013.
Kimberly D. Bose,
Secretary.

[FR Doc. 2013-01921 Filed 1-29-13; 8:45 am]

BILLING CODE 6717-01-P